FEDERAL HOUSING FINANCE BOARD

[No. 2003-N-12]

Federal Home Loan Bank Members Selected for Community Support Review

AGENCY: Federal Housing Finance Board.

ACTION: Notice.

SUMMARY: The Federal Housing Finance Board (Finance Board) is announcing the Federal Home Loan Bank (Bank) members it has selected for the 2002-03 eighth quarter review cycle under the Finance Board's community support requirements regulation. This notice also prescribes the deadline by which Bank members selected for review must submit Community Support Statements to the Finance Board.

DATES: Bank members selected for the 2002-03 eighth quarter review cycle under the Finance Board's community support requirements regulation must submit completed Community Support Statements to the Finance Board on or before February 27, 2004.

ADDRESSES: Bank members selected for the 2002-03 eighth quarter review cycle under the Finance Board's community support requirements regulation must submit completed Community Support Statements to the Finance Board either by regular mail at the Federal Housing Finance Board, Office of Supervision, Community Investment and Affordable Housing, 1777 F Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1777 F Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the February 27, 2004 deadline prescribed in this notice. 12 CFR 944.2(b)(1)(ii) and (c). On or before January 26, 2004, each Bank will notify the members in its district that have been selected for the 2002-03 eighth quarter community support review cycle that they must complete and submit to the Finance Board by the deadline a Community Support Statement. 12 CFR 944.2(b)(2)(i). The member's Bank will provide a blank Community Support Statement Form, which also is available on the Finance Board's Web site: http://WWW.FHFB.GOV. Upon request, the member's Bank also will provide assistance in completing the Community Support Statement.

The Finance Board has selected the following members for the 2002-03 eighth quarter community support review cycle:

Member | City | State
Federal Home Loan Bank of Boston—District 1
Savings Bank of Danbury | Danbury | Connecticut.
American Eagle Federal Credit Union | East Hartford | Connecticut.
VantisLife Insurance Company | East Hartford | Connecticut.
The Dime Savings Bank of Norwich | Norwich | Connecticut.
Stafford Savings Bank | Stafford Springs | Connecticut.
Sikorsky Federal Credit Union | Stratford | Connecticut.
Torrington Savings Bank | Torrington | Connecticut.
Constitution State Corporate Credit Union, Inc | Wallingford | Connecticut.
Webster Bank | Waterbury | Connecticut.
Maine State Employees Credit Union | Augusta | Maine.
Biddeford Savings Bank | Biddeford | Maine.
Atlantic Regional Federal Credit Union | Brunswick | Maine.
Ocean National Bank | Kennebunk | Maine.
Rainbow Federal Credit Union | Lewiston | Maine.
Community Credit Union | Lewiston | Maine.
Ste. Croix Regional Federal Credit Union | Lewiston | Maine.
Sebasticook Valley Federal Credit Union | Pittsfield | Maine.
Greater Portland Municipal Credit Union | South Portland | Maine.
Town and County Federal Credit Union | South Portland | Maine.
Evergreen Credit Union | Westbrook | Maine.
The Provident Bank | Amesbury | Massachusetts.
Athol-Clinton Co-operative Bank | Athol | Massachusetts.
Citizens Bank of Massachusetts | Boston | Massachusetts.
Massachusetts State Employees Credit Union | Boston | Massachusetts.
Mercantile Bank and Trust Company | Boston | Massachusetts.
Brookline Municipal Credit Union | Brookline | Massachusetts.
Metropolitan Credit Union | Chelsea | Massachusetts.
Postal Community Credit Union | East Boston | Massachusetts.
Everett Co-operative Bank | Everett | Massachusetts.
St. Anne's Credit Union of Fall River, Mass | Fall River | Massachusetts.
I.C. Federal Credit Union | Fitchburg | Massachusetts.
Holyoke Credit Union | Holyoke | Massachusetts.
Hyde Park Cooperative Bank | Hyde Park | Massachusetts.
Jeanne d'Arc Credit Union | Lowell | Massachusetts.
TeleCom Cooperative Bank | Malden | Massachusetts.
St. Mary's Credit Union | Marlborough | Massachusetts.
Pilgrim Co-operative Bank | Marshfield | Massachusetts.
Medway Co-operative Bank | Medway | Massachusetts.
Merrimac Savings Bank | Merrimac | Massachusetts.
Millbury National Bank | Millbury | Massachusetts.
Direct Federal Credit Union | Needham | Massachusetts.
The Village Bank | Newton | Massachusetts.
Merrimack Valley Federal Credit Union | North Andover | Massachusetts.
Greylock Federal Credit Union | Pittsfield | Massachusetts.
Legacy Banks | Pittsfield | Massachusetts.
Bridgewater Savings Bank | Raynham | Massachusetts.
The Cooperative Bank | Roslindale | Massachusetts.
Saugus Federal Credit Union | Saugus | Massachusetts.
Member Plus Credit Union | Somerville | Massachusetts.
Winter Hill Bank | Somerville | Massachusetts.
MBTA Employees Credit Union | South Boston | Massachusetts.
Mt. Washington Co-operative Bank | South Boston | Massachusetts.
The Savings Bank | Wakefield | Massachusetts.
Wakefield Co-operative Bank | Wakefield | Massachusetts.
Webster Five Cents Savings Bank | Webster | Massachusetts.
Webster First Federal Credit Union | Webster | Massachusetts.
Massachusetts Credit Union Share Insurance Corporation | Westborough | Massachusetts.
Mutual Federal Savings Bank of Plymouth County | Whitman | Massachusetts.
Winchester Savings Bank | Winchester | Massachusetts.
Eastern Corporate Federal Credit Union | Woburn | Massachusetts.
Ledyard National Bank | Hanover | New Hampshire.
Monadnock Community Bank | Peterborough | New Hampshire.
Pemigewasset National Bank | Plymouth | New Hampshire.
Northeast Credit Union | Portsmouth | New Hampshire.
Woodsville Guaranty Savings Bank | Woodsville | New Hampshire.
The Peoples Credit Union | Middleton | Rhode Island.
Pawtucket Credit Union | Pawtucket | Rhode Island.
Coastway Credit Union | Providence | Rhode Island.
Fleet National Bank | Providence | Rhode Island.
Vermont Development Credit Union | Burlington | Vermont.
Community National Bank | Derby | Vermont.
The First National Bank of Orwell | Orwell | Vermont.
Wells River Savings Bank | Wells River | Vermont.
Federal Home Loan Bank of New York—District 2
Summit Federal Savings & Loan Association | Dunellen | New Jersey.
Sterling Bank | Mt. Laurel | New Jersey.
Roselle Savings Bank | Roselle | New Jersey.
Greater Community Bank | Totowa | New Jersey.
Sun National Bank | Vineland | New Jersey.
Valley National Bank | Wayne | New Jersey.
Marathon National Bank of New York | Astoria | New York.
Seneca Federal Savings and Loan Association | Baldwinsville | New York.
Ballston Spa National Bank | Ballston Spa | New York.
Bath National Bank | Bath | New York.
New York National Bank | Bronx | New York.
The Dime Savings Bank of Williamsburgh | Brooklyn | New York.
The North Country Savings Bank | Canton | New York.
Community Bank, National Association | Canton | New York.
Carthage Federal Savings and Loan Association | Carthage | New York.
Lake Shore Savings & Loan Association | Dunkirk | New York.
Ellenville National Bank | Ellenville | New York.
City National Bank & Trust Company | Gloversville | New York.
Sound Federal Savings and Loan Association | Mamaroneck | New York.
North Fork Bank | Melville | New York.
Interaudi Bank | New York | New York.
Ridgewood Savings Bank | New York | New York.
Alliance Bank, NA | Oneida | New York.
The Seneca Falls Savings Bank | Seneca Falls | New York.
Geddes Federal Savings and Loan Association | Syracuse | New York.
The National Bank of Delaware County | Walton | New York.
RG Premier Bank of PR | Hato Rey | Puerto Rico.
Banco Popular de Puerto Rico | San Juan | Puerto Rico.
EuroBank | San Juan | Puerto Rico.
Federal Home Loan Bank of Pittsburgh—District 3
Chase Manhattan Bank USA, N.A | Wilmington | Delaware.
Sun East Federal Credit Union | Aston | Pennsylvania.
Allegiance Bank of North America | Bala Cynwyd | Pennsylvania.
Philadelphia Indemnity Insurance Company | Bala Cynwyd | Pennsylvania.
Philadelphia Insurance Company | Bala Cynwyd | Pennsylvania.
The First National Bank of Berwick | Berwick | Pennsylvania.
American Eagle Savings Bank | Boothwyn | Pennsylvania.
Commerce Bank/Harrisburg, N.A | Camp Hill | Pennsylvania.
First National Bank of Canton | Canton | Pennsylvania.
Croydon Savings Bank | Croydon | Pennsylvania.
FNB Bank, N.A | Danville | Pennsylvania.
Bank of Lancaster County, N.A | East Petersburg | Pennsylvania.
Marquette Savings Bank | Erie | Pennsylvania.
First United National Bank | Fryburg | Pennsylvania.
Adams County National Bank | Gettysburg | Pennsylvania.
First National Bank of Greencastle | Greencastle | Pennsylvania.
Legacy Bank of Harrisburg | Harrisburg | Pennsylvania.
Huntingdon Savings Bank | Huntingdon | Pennsylvania.
Huntingdon Valley Bank | Huntingdon Valley | Pennsylvania.
First Commonwealth Bank | Indiana | Pennsylvania.
Abington Bank | Jenkintown | Pennsylvania.
Reliance Federal Credit Union | King of Prussia | Pennsylvania.
The Merchants National Bank of Kittanning | Kittanning | Pennsylvania.
Fulton Bank | Lancaster | Pennsylvania.
Citizens National Bank | Lansford | Pennsylvania.
The First National Bank of Lilly | Lilly | Pennsylvania.
Millennium Bank | Malvern | Pennsylvania.
Savings and Loan Association of Milton, Pa | Milton | Pennsylvania.
The First National Bank of Newport | Newport | Pennsylvania.
Progress Bank | Norristown | Pennsylvania.
The Northumberland National Bank | Northumberland | Pennsylvania.
First National Bank of Palmerton | Palmerton | Pennsylvania.
Tioga Franklin Savings Bank | Philadelphia | Pennsylvania.
United Savings Bank | Philadelphia | Pennsylvania.
Fidelity Bank PaSb | Pittsburgh | Pennsylvania.
Landmark Community Bank | Pittston | Pennsylvania.
Wilmington Trust of Pennsylvania | Villanova | Pennsylvania.
West Milton State Bank | West Milton | Pennsylvania.
PeoplesBank, a Codurus Valley Company | York | Pennsylvania.
Citizens National Bank of Berkeley Springs | Berkeley Springs | West Virginia.
Bank of Charles Town | Charles Town | West Virginia.
Star USA Federal Credit Union | Charleston | West Virginia.
Davis Strust Company | Elkins | West Virginia.
Pendleton County Bank | Franklin | West Virginia.
Guaranty Bank & Trust Company | Huntington | West Virginia.
Summit Community Bank | Moorefield | West Virginia.
Capon Valley Bank | Wardensville | West Virginia.
First National Bank in West Union | West Union | West Virginia.
The Citizens Bank of Weston, Inc | Weston | West Virginia.
Federal Home Loan Bank of Atlanta—District 4
First National Bank of Central Alabama | Aliceville | Alabama.
The First National Bank of Atmore | Atmore | Alabama.
Alabama Central Credit Union | Birmingham | Alabama.
Regions Bank | Birmingham | Alabama.
The Bank | Birmingham | Alabama.
Farmers and Merchants Bank | Centre | Alabama.
Merchants & Farmers Bank of Greene County | Eutaw | Alabama.
First Lowndes Bank, Incorporated | Fort Deposit | Alabama.
Alabama Teachers Credit Union | Gadsden | Alabama.
First Metro Bank | Muscle Shoals | Alabama.
Farmers and Merchants Bank | Piedmont | Alabama.
West Alabama Bank & Trust | Reform | Alabama.
Bank Independent | Sheffield | Alabama.
First Southern National Bank | Stevenson | Alabama.
Turnberry Bank | Aventura | Florida.
Palm Beach County Bank | Boynton Beach | Florida.
Coast Bank of Florida | Bradenton | Florida.
Horizon Bank | Bradenton | Florida.
Riverside Bank of the Gulf Coast | Cape Cora | Florida.
Gulf State Community Bank | Carrabelle | Florida.
EuroBank | Coral Gables | Florida.
Destin Bank | Destin | Florida.
Englewood Bank | Englewood | Florida.
City County Credit Union of Fort Lauderdale | Fort Lauderdale | Florida.
First Community Bank of Southwest Florida | Fort Myers | Florida.
Beach Community Bank | Fort Walton Beach | Florida.
Equitable Bank | Ft. Lauderdale | Florida.
Florida Citizens Bank | Gainesville | Florida.
First Bank of Indiantown | Indiantown | Florida.
Jax Federal Credit Union | Jacksonville | Florida.
The Jacksonville Bank | Jacksonville | Florida.
Jacksonville Fireman's Credit Union | Jacksonville | Florida.
CNB National Bank | Lake City | Florida.
Community United Bank of Florida | Lake Mary | Florida.
Heritage Bank of Florida | Lutz | Florida.
BAC Florida Bank | Miami | Florida.
Executive National Bank | Miami | Florida.
Gulf Bank | Miami | Florida.
Fifth Third Bank, Florida | Naples | Florida.
Madison Bank | Palm Harbor | Florida.
Sunshine State FS&L Association | Plant City | Florida.
Dorsey State Bank | Abbeville | Georgia.
Wheeler County State Bank | Alamo | Georgia.
First National Bank of South Georgia | Albany | Georgia.
Integrity Bank | Alpharetta | Georgia.
Sumter Bank & Trust Company | Americus | Georgia.
Colony Bank Ashburn | Ashburn | Georgia.
Community National Bank | Ashburn | Georgia.
The National Bank of Georgia | Athens | Georgia.
Bank of America Georgia, NA | Atlanta | Georgia.
Capitol City Bank & Trust Company | Atlanta | Georgia.
United Community Bank | Blairsville | Georgia.
Atlantic National Bank | Brunswick | Georgia.
Peoples Bank & Trust | Buford | Georgia.
United National Bank | Cairo | Georgia.
Bartow County Bank | Cartersville | Georgia.
Peoples Community Bank | Colquitt | Georgia.
Columbus Bank and Trust | Columbus | Georgia.
First National Bank | Covington | Georgia.
Lumpkin County Bank | Dahlonega | Georgia.
Bank of Dawson | Dawson | Georgia.
Bank of Terrell | Dawson | Georgia.
Horizon Bank | Decatur | Georgia.
Global Commerce Bank | Doraville | Georgia.
Farmers State Bank | Dublin | Georgia.
First National Bank of Gwinnett | Duluth | Georgia.
Heritage Bank | Jonesboro | Georgia.
Charter Bank and Trust Company | Marietta | Georgia.
First Capital Bank | Norcross | Georgia.
Waycross Bank & Trust | Waycross | Georgia.
UnitedBank | Zebulon | Georgia.
The Harbor Bank of Maryland | Baltimore | Maryland.
Educational Systems Employees Federal C.U | Bladensburg | Maryland.
The National Bank of Cambridge | Cambridge | Maryland.
First Peoples Community Federal Credit Union | Cumberland | Maryland.
The Peoples Bank of Maryland | Denton | Maryland.
Freedom of Maryland Federal Credit Union | EA-APG (Aberdeen) | Maryland.
County First Bank | La Plata | Maryland.
Bank of Ocean City | Ocean City | Maryland.
Farmers and Merchants Bank | Upperco | Maryland.
Old Line National Bank | Waldorf | Maryland.
Westminster Union Bank | Westminster | Maryland.
High Country Bank | Boone | North Carolina.
New Century Bank | Dunn | North Carolina.
Four Oaks Bank & Trust Company | Four Oaks | North Carolina.
Alamance National Bank | Graham | North Carolina.
SterlingSouth Bank & Trust Company | Greensboro | North Carolina.
BB & T of SC | Lumberton | North Carolina.
Bank of Carolinas | Mocksville | North Carolina.
Trinity Bank | Monroe | North Carolina.
Bank of Currituck | Moyock | North Carolina.
Bank of Oak Ridge | Oak Ridge | North Carolina.
North State Bank | Raleigh | North Carolina.
First-Citizens Bank & Trust Company | Raleigh | North Carolina.
Roanoke Rapids Savings Bank, SSB | Roanoke Rapids | North Carolina.
KS Bank | Smithfield | North Carolina.
Jackson Savings Bank, S.S.B | Sylva | North Carolina.
Tarboro Savings Bank, SSB | Tarboro | North Carolina.
Members Credit Union | Winston Salem | North Carolina.
Security Federal Bank | Aiken | South Carolina.
Bank of Anderson | Anderson | South Carolina.
Lowcountry National Bank | Beaufort | South Carolina.
Summit National Bank | Greenville | South Carolina.
CapitalBank | Greenwood | South Carolina.
Palmetto State Bank | Hampton | South Carolina.
Hartsville Community Bank, N.A | Hartsville | South Carolina.
Beach First National Bank | Myrtle Beach | South Carolina.
Nexity Bank | Myrtle Beach | South Carolina.
Newberry Federal Savings Bank | Newberry | South Carolina.
First National Bank of the South | Spartanburg | South Carolina.
Highlands Union Bank | Abingdon | Virginia.
The First Bank and Trust Company | Abingdon | Virginia.
Treasury Bank, N.A | Alexandria | Virginia.
Common Wealth One Federal Credit Union | Alexandria | Virginia.
The First National Bank of Altavista | Altavista | Virginia.
Bank of Clarke County | Berryville | Virginia.
Guaranty Bank | Charlottesville | Virginia.
Constellation Federal Credit Union | Falls Church | Virginia.
Capital One, F.S.B | Falls Church | Virginia.
The Bank of Floyd | Floyd | Virginia.
Miners and Merchants Bank and Trust Company | Grundy | Virginia.
Rockingham Heritage Bank | Harrisonburg | Virginia.
Bank of Northumberland, Inc | Heathsville | Virginia.
The Bank of Marion | Marion | Virginia.
Heritage Bank and Trust | Norfolk | Virginia.
Bank of Essex | Tappahannock | Virginia.
Resource Bank | Virginia Beach | Virginia.
The Fauquier Bank | Warrenton | Virginia.
Federal Home Loan Bank of Cincinnati—District 5
Town Square Bank, Inc | Ashland | Kentucky.
The Peoples Exchange Bank of Beattyville | Beattyville | Kentucky.
Central Appalachian Peoples Federal Credit Union | Berea | Kentucky.
Farmers State Bank | Booneville | Kentucky.
American Bank & Trust Company, Inc | Bowling Green | Kentucky.
Citizens First Bank, Inc | Bowling Green | Kentucky.
The First National Bank of Brooksville | Brooksville | Kentucky.
Brownsville Deposit Bank | Brownsville | Kentucky.
Heritage Bank, Inc | Burlington | Kentucky.
Bank of Caneyville | Caneyville | Kentucky.
Clinton Bank | Clinton | Kentucky.
Bank of Corbin | Corbin | Kentucky.
Bank of Ohio County | Dundee | Kentucky.
Elkton Bank and Trust Company | Elkton | Kentucky.
Farmers Deposit Bank | Eminence | Kentucky.
The Bank of Kentucky | Florence | Kentucky.
First Federal Savings Bank of Frankfort | Frankfort | Kentucky.
The Commercial Bank of Grayson | Grayson | Kentucky.
The First National Bank of Grayson | Grayson | Kentucky.
Ohio Valley National Bank | Henderson | Kentucky.
Hyden Citizens Bank | Hyden | Kentucky.
Citizens Guaranty Bank | Irvine | Kentucky.
The First National Bank of Jackson | Jackson | Kentucky.
Citizens Bank & Trust Company of Jackson | Jackson | Kentucky.
Peoples Bank | Lebanon | Kentucky.
Lewisburg Banking Company | Lewisburg | Kentucky.
KUE Federal Credit Union | Lexington | Kentucky.
Members Heritage Federal Credit Union | Lexington | Kentucky.
University of Kentucky Federal Credit Union | Lexington | Kentucky.
First National Bank and Trust | London | Kentucky.
Park Federal Credit Union | Louisville | Kentucky.
Stock Yards Bank & Trust Company | Louisville | Kentucky.
The Peoples Bank | Marion | Kentucky.
Security Bank & Trust Company | Maysville | Kentucky.
The Citizens Bank | Morehead | Kentucky.
Citizens Bank of Campbell County, Inc | Newport | Kentucky.
First Farmers Bank & Trust Company | Owenton | Kentucky.
Paducah Bank & Trust Company | Paducah | Kentucky.
Kentucky Bank | Paris | Kentucky.
Salyersville National Bank | Salyersville | Kentucky.
Citizens Union Bank of Shelbyville | Shelbyville | Kentucky.
Somerset National Bank | Somerset | Kentucky.
Peoples Bank of Kentucky, Inc | Stanford | Kentucky.
Bank of the Mountains | West Liberty | Kentucky.
Winchester Federal Savings Bank | Winchester | Kentucky.
North Akron Savings Bank | Akron | Ohio.
The Andover Bank | Andover | Ohio.
The Sutton State Bank | Attica | Ohio.
United Bank, N.A | Bucyrus | Ohio.
Farmers National Bank | Canfield | Ohio.
The Cincinnatus Savings & Loan Company | Cheviot | Ohio.
Foundation Savings | Cincinnati | Ohio.
The Provident Bank | Cincinnati | Ohio.
Corporate One Federal Credit Union | Columbus | Ohio.
CME Federal Credit Union | Columbus | Ohio.
Prospect Bank | Columbus | Ohio.
The Union Bank Company | Columbus Grove | Ohio.
Cuyahoga Falls Savings Bank | Cuyahoga Falls | Ohio.
Heartland Federal Credit Union | Dayton | Ohio.
The State Bank and Trust Company | Defiance | Ohio.
Fremont Federal Credit Union | Fremont | Ohio.
The Ohio Valley Bank Company | Gallipolis | Ohio.
The Sycamore National Bank | Groesbeck | Ohio.
The Harrison Building and Loan Association | Harrison | Ohio.
Oak Hill Banks | Jackson | Ohio.
Lebanon Citizens National Bank | Lebanon | Ohio.
Buckeye Community Bank | Lorain | Ohio.
The Lorain National Bank | Lorain | Ohio.
The Marion Bank | Marion | Ohio.
Minster Bank | Minster | Ohio.
The Mount Victory State Bank | Mount Victory | Ohio.
First National Bank of New Bremen | New Bremen | Ohio.
Farmers State Bank | New Madison | Ohio.
Miami Employees Federal Credit Union | Oxford | Ohio.
Desco Federal Credit Union | Portsmouth | Ohio.
Portage Community Bank | Ravenna | Ohio.
The Richwood Banking Company | Richwood | Ohio.
The Sherwood State Bank | Sherwood | Ohio.
The First National Bank of Sycamore | Sycamore | Ohio.
First Bank of Ohio | Tiffin | Ohio.
Great Lakes Credit Union, Inc | Toledo | Ohio.
The Citizens National Bank of Urbana | Urbana | Ohio.
Seven Seventeen Credit Union, Inc | Warren | Ohio.
National Bank and Trust Company | Wilmington | Ohio.
Woodsfield Savings Bank | Woodsfield | Ohio.
Community B&T Company of Cheatham County | Ashland City | Tennessee.
Citizens Bank & Trust Company | Atwood | Tennessee.
First South Bank | Bolivar | Tennessee.
Southeast Financial Credit Union | Brentwood | Tennessee.
UnumProvident Federal Credit Union | Chattanooga | Tennessee.
Southern Heritage Bank | Cleveland | Tennessee.
The Community Bank of East Tennessee | Clinton | Tennessee.
First Alliance Bank | Cordova | Tennessee.
Union Planters Bank, NA | Cordova | Tennessee.
Tristar Bank | Dickson | Tennessee.
First State Bank | Dresden | Tennessee.
Franklin National Bank | Franklin | Tennessee.
Tennessee Commerce Bank | Franklin | Tennessee.
Bank of Friendship | Friendship | Tennessee.
Renasant Bank | Germantown | Tennessee.
Dupont Community Credit Union | Hixon | Tennessee.
Cornerstone Community Bank | Hixson | Tennessee.
The First National Bank of LaFollette | LaFollette | Tennessee.
Academy Bank | Lebanon | Tennessee.
Bank of Perry County | Lobelville | Tennessee.
Bank of Mason | Mason | Tennessee.
McKenzie Banking Company | McKenzie | Tennessee.
Security Federal Savings Bank | McMinnville | Tennessee.
Financial Federal Savings Bank | Memphis | Tennessee.
First Tennessee Bank NA | Memphis | Tennessee.
Tri-State Bank of Memphis | Memphis | Tennessee.
Pinnacle National Bank | Nashville | Tennessee.
Community Trust & Banking Company | Ooletewah | Tennessee.
Bank of Ripley | Ripley | Tennessee.
First Community Bank of East Tennessee | Rogersville | Tennessee.
The Citizens Bank of East Tennessee | Rogersville | Tennessee.
Hardin County Bank | Savannah | Tennessee.
Peoples State Bank | Trenton | Tennessee.
First National Bank of Tullahoma | Tullahoma | Tennessee.
The Traders National Bank | Tullahoma | Tennessee.
Wayne County Bank | Waynesboro | Tennessee.
Federal Home Loan Bank of Indianapolis—District 6.
Central National Bank & Trust Company | Attica | Indiana.
Hoosier Hills Credit Union | Bedford | Indiana.
Bloomfield State Bank | Bloomfield | Indiana.
IU Employees Federal Credit Union | Bloomington | Indiana.
Wayne Bank and Trust Company | Cambridge City | Indiana.
Heritage Community Bank | Columbus | Indiana.
Chiphone Federal Credit Union | Elkhart | Indiana.
Fire Police City County Federal Credit Union | Fort Wayne | Indiana.
MidWest America Federal Credit Union | Fort Wayne | Indiana.
Peoples State Bank of Francesville | Francesville | Indiana.
The Friendship State Bank | Friendship | Indiana.
Sand Ridge Bank | Highland | Indiana.
German American Bank | Jasper | Indiana.
Lafayette Bank & Trust | Lafayette | Indiana.
Union County National Bank | Liberty | Indiana.
Lynnville National Bank | Lynnville | Indiana.
Citizens State Bank | New Castle | Indiana.
Notre Dame Federal Credit Union | Notre Dame | Indiana.
State Bank of Oxford | Oxford | Indiana.
First Federal Savings Bank | Rochester | Indiana.
1st Source Bank | South Bend | Indiana.
First National Bank of Valparaiso | Valparaiso | Indiana.
CentreBank | Veedersburg | Indiana.
The Merchants Bank & Trust Company | West Harrison | Indiana.
Centier Bank | Whiting | Indiana.
Motor Parts Federal Credit Union | Auburn Hills | Michigan.
Chemical Bank—Shoreline | Benton Harbor | Michigan.
State Bank of Caledonia | Caledonia | Michigan.
Chelsea State Bank | Chelsea | Michigan.
Century Bank and Trust | Coldwater | Michigan.
Southern Michigan Bank and Trust | Coldwater | Michigan.
First State Bank | Decatur | Michigan.
Detroit Commerce Bank | Detroit | Michigan.
Baybank | Gladstone | Michigan.
Founders Trust Personal Bank | Grand Rapids | Michigan.
West Michigan Community Bank | Hudsonville | Michigan.
The Miners State Bank of Iron River | Iron River | Michigan.
Peninsula Bank of Ishpeming | Ishpeming | Michigan.
Kent Commerce Bank | Kentwood | Michigan.
West Shore Bank | Ludington | Michigan.
The Dart Bank | Mason | Michigan.
Citizens State Bank | New Baltimore | Michigan.
Onsted State Bank | Onsted | Michigan.
Oxford Bank | Oxford | Michigan.
The Bank of Northern Michigan | Petoskey | Michigan.
Community Plus Savings Bank | Rochester Hills | Michigan.
Independent Bank | Rockford | Michigan.
Old Mission Bank | Sault Saint Marie | Michigan.
FirstBank—St. Johns | St. Johns | Michigan.
Berrien Teachers Credit Union | St. Joseph | Michigan.
TBA Education Credit Union | Traverse City | Michigan.
Warren Bank | Warren | Michigan.
Federal Home Loan Bank of Chicago—District 7
State Bank of Augusta | Augusta | Illinois.
Benchmark Bank | Aurora | Illinois.
The Old Second National Bank of Aurora | Aurora | Illinois.
State Bank of Aviston | Aviston | Illinois.
Tompkins State Bank | Avon | Illinois.
Beardstown Savings s.b | Beardstown | Illinois.
First Bank, bc | Belvidere | Illinois.
Citizens Bank—Illinois, National Association | Berwyn | Illinois.
Bloomingdale Bank & Trust | Bloomington | Illinois.
Great Lakes Bank, National Association | Blue Island | Illinois.
Capstone Bank, N.A | Bourbonnais | Illinois.
Bowen State Bank | Bowen | Illinois.
The Bank of Lawrence County | Bridgeport | Illinois.
Brimfield Bank | Brimfield | Illinois.
MidAmerican National Bank | Canton | Illinois.
Marine Trust Company | Carthage | Illinois.
Bank of Chenoa | Chenoa | Illinois.
Buena Vista National Bank | Chester | Illinois.
Chester National Bank | Chester | Illinois.
Cosmopolitan Bank and Trust Company | Chicago | Illinois.
Lakeside Bank | Chicago | Illinois.
LaSalle Northwest National Bank | Chicago | Illinois.
Pacific Global Bank | Chicago | Illinois.
Pullman Bank and Trust Company | Chicago | Illinois.
The First Commercial Bank | Chicago | Illinois.
The Northern Trust Company | Chicago | Illinois.
Vesta Fire Insurance Corporation | Chicago | Illinois.
State Bank of Chrisman | Chrisman | Illinois.
Amicus FSB | Cicero | Illinois.
American Savings Bank of Danville | Danville | Illinois.
Republic Bank of Chicago | Darien | Illinois.
Citizens Community Bank of Decatur | Decatur | Illinois.
First National Bank of Decatur | Decatur | Illinois.
Community Bank Delavan | Delavan | Illinois.
The First National Bank of Dieterich | Dieterich | Illinois.
First State Bank of Dix | Dix | Illinois.
East Dubuque Savings Bank | East Dubuque | Illinois.
Citizens Bank of Edinburg | Edinburg | Illinois.
Florists' Mutual Insurance Company | Edwardsville | Illinois.
The Bank of Edwardsville | Edwardsville | Illinois.
C.P. Burnett & Sons, Bankers | Eldorado | Illinois.
First State Bank of Eldorado | Eldorado | Illinois.
The Elgin State Bank | Elgin | Illinois.
Advantage National Bank | Elk Grove Village | Illinois.
First Bank & Trust | Evanston | Illinois.
Fairfield National Bank | Fairfield | Illinois.
Flora Savings Bank | Flora | Illinois.
Micro Switch Employee's Credit Union | Freeport | Illinois.
Marquette BankIllinois | Galesburg | Illinois.
Glasford State Bank | Glasford | Illinois.
Heritage Community Bank | Glenwood | Illinois.
The Bank of Godfrey | Godfrey | Illinois.
Golden State Bank | Golden | Illinois.
Goodfield State Bank | Goodfield | Illinois.
Farmers National Bank of Griggsville | Griggsville | Illinois.
Clay County State Bank | Louisville | Illinois.
Peoples State Bank of Mansfield | Mansfield | Illinois.
HomeStar Bank | Manteno | Illinois.
First Federal Savings Bank of Mascoutah | Mascoutah | Illinois.
First Federal Savings & Loan Association | Mattoon | Illinois.
Amcore Bank, N.A., Mendota | Mendota | Illinois.
Morton Community Bank | Morton | Illinois.
Mt. Morris Savings & Loan | Mt. Morris | Illinois.
The First National Bank of Mt. Pulaski | Mt. Pulaski | Illinois.
Oak Brook Bank | Oak Brook | Illinois.
TrustBank | Olney | Illinois.
First Federal Savings Bank | Ottawa | Illinois.
First Bank and Trust, S.B | Paris | Illinois.
Corn Belt Bank & Trust Company | Pittsfield | Illinois.
Bank of Rantoul | Rantoul | Illinois.
The First National Bank & Trust Company of Rochelle | Rochelle | Illinois.
Northwest Bank of Rockford | Rockford | Illinois.
1st Community Bank | Sherrard | Illinois.
Independent Bankers' Bank | Springfield | Illinois.
Sterling Federal Bank, FSB | Sterling | Illinois.
Streator Home Building and Loan Association | Streator | Illinois.
First National Bank of Sullivan | Sullivan | Illinois.
Thomson State Bank | Thomson | Illinois.
Tempo Bank, A FSB | Trenton | Illinois.
Heritage Bank of Central Illinois | Trivoli | Illinois.
Iroquois Federal Savings and Loan Association | Watseka | Illinois.
Bank of Waukegan | Waukegan | Illinois.
Wemple State Bank | Waverly | Illinois.
State Bank of Illinois | West Chicago | Illinois.
Abottsford State Bank | Abbottsford | Wisconsin.
Sterling Bank | Barron | Wisconsin.
Brill State Bank | Brill | Wisconsin.
RidgeStone Bank | Brookfield | Wisconsin.
First Banking Center | Burlington | Wisconsin.
Cambridge State Bank | Cambridge | Wisconsin.
Community Bank of Cameron | Cameron | Wisconsin.
Chetek State Bank | Chetek | Wisconsin.
Northwestern Bank | Chippewa Falls | Wisconsin.
Bank of Buffalo | Cochrane | Wisconsin.
Community Bank of Central Wisconsin | Colby | Wisconsin.
Cuba City State Bank | Cuba City | Wisconsin.
DMB Community Bank | DeForest | Wisconsin.
Royal Credit Union | Eau Claire | Wisconsin.
Charter Bank Eau Claire | Eau Claire | Wisconsin.
Grafton State Bank | Grafton | Wisconsin.
Grand Marsh State Bank | Grand Marsh | Wisconsin.
Hartford Savings Bank | Hartford | Wisconsin.
Farmers State Bank | Hillsboro | Wisconsin.
Citizens State Bank | Hudson | Wisconsin.
The Bank of Kaukauna | Kaukauna | Wisconsin.
F&M Bank Wisconsin | Kaukauna | Wisconsin.
La Farge State Bank | La Farge | Wisconsin.
State Capitol Credit Union | Madison | Wisconsin.
National Guardian Life Insurance Company | Madison | Wisconsin.
University of Wisconsin Credit Union | Madison | Wisconsin.
First National Bank in Manitowoc | Manitowoc | Wisconsin.
Investors Community Bank | Manitowoc | Wisconsin.
Farmers & Merchants Bank and Trust | Marinette | Wisconsin.
The Stephenson National Bank & Trust | Marinette | Wisconsin.
Marshfield Savings Bank | Marshfield | Wisconsin.
Mayville Savings Bank | Mayville | Wisconsin.
McFarland State Bank | McFarland | Wisconsin.
Lincoln County Bank | Merrill | Wisconsin.
North Milwaukee State Bank | Milwaukee | Wisconsin.
Wells Fargo Bank Wisconsin, National Assn | Milwaukee | Wisconsin.
Monona State Bank | Monona | Wisconsin.
First National Bank of Niagara | Niagara | Wisconsin.
Oostburg State Bank | Oostburg | Wisconsin.
United Bank | Osseo | Wisconsin.
Pigeon Falls State Bank | Pigeon Falls | Wisconsin.
Port Washington State Bank | Port Washington | Wisconsin.
Peoples State Bank | Prairie du Chien | Wisconsin.
Bank of Prairie du Sac | Prairie du Sac | Wisconsin.
Community State Bank of Prentice | Prentice | Wisconsin.
Community First Bank | Rosholt | Wisconsin.
First National Bank of Stoughton | Stoughton | Wisconsin.
Stratford State Bank | Stratford | Wisconsin.
Bank of Turtle Lake | Turtle Lake | Wisconsin.
First National Bank | Waupaca | Wisconsin.
Peoples State Bank | Wausau | Wisconsin.
State Bank of Withee | Withee | Wisconsin.
Federal Home Loan Bank of Des Moines—District 8
The First National Bank of Akron | Akron | Iowa.
First Iowa State Bank | Albia | Iowa.
Farmers State Bank | Algona | Iowa.
Iowa State Bank | Algona | Iowa.
Ames Community Bank | Ames | Iowa.
Greater IA Credit Union | Ames | Iowa.
Rolling Hills Bank & Trust | Atlantic | Iowa.
Benton County State Bank | Blairstown | Iowa.
First State Bank | Britt | Iowa.
Poweshiek County Savings Bank | Brooklyn | Iowa.
Farmers & Merchant Bank & Trust | Burlington | Iowa.
1st Gateway Credit Union | Camanche | Iowa.
Great Western Bank | Clive | Iowa.
Carroll County State Bank | Carroll | Iowa.
Tri-County Bank & Trust | Cascade | Iowa.
Transamerica Life Insurance Company | Cedar Rapids | Iowa.
Center Point Bank & Trust Company | Center Point | Iowa.
Iowa State Bank | Clarksville | Iowa.
Citizens First Bank | Clinton | Iowa.
Clinton National Bank | Clinton | Iowa.
First State Bank of Colfax | Colfax | Iowa.
Frontier Savings Bank | Council Bluffs | Iowa.
Northwest Bank and Trust Company | Davenport | Iowa.
Viking State Bank & Trust | Decorah | Iowa.
Defiance State Bank | Defiance | Iowa.
Bankers Trust Company, N.A | Des Moines | Iowa.
First Central State Bank | DeWitt | Iowa.
Iowa Savings Bank | Dike | Iowa.
American Trust and Savings Bank | Dubuque | Iowa.
Du Trac Community Credit Union | Dubuque | Iowa.
Emmet County State Bank | Estherville | Iowa.
Employees Credit Union | Estherville | Iowa.
First Security State Bank | Evansdale | Iowa.
Manufacturers Bank & Trust Company | Forest City | Iowa.
The Garnavillo Savings Bank | Garnavillo | Iowa.
George State Bank | George | Iowa.
Union State Bank | Greenfield | Iowa.
Heritage Bank, N.A | Holstein | Iowa.
Iowa State Bank | Hull | Iowa.
United Bank of Iowa | Ida Grove | Iowa.
Iowa State Bank & Trust Company | Iowa City | Iowa.
University of Iowa Community Credit Union | Iowa City | Iowa.
Community Choice Credit Union | Johnston | Iowa.
Primebank | Le Mars | Iowa.
Luana Savings Bank | Luana | Iowa.
Central State Bank | Muscatine | Iowa.
MidWestOne Bank & Trust | Oskaloosa | Iowa.
Central Valley Bank | Ottumwa | Iowa.
Bank Iowa. | Red Oak | Iowa.
Pioneer Bank | Sergeant Bluff | Iowa.
Central Bank | Storm Lake | Iowa.
First State Bank | Stuart | Iowa.
American Savings Bank | Tripoli | Iowa.
West Des Moines State Bank | West Des Moines | Iowa.
Farmers Trust & Savings Bank | Williamsburg | Iowa.
Rural American Bank—Ada | Ada | Minnesota.
Adrian State Bank | Adrian | Minnesota.
Security State Bank of Aitkin | Aitkin | Minnesota.
Americana National Bank | Albert Lea | Minnesota.
1st Regions Bank | Andover | Minnesota.
Annandale State Bank | Annandale | Minnesota.
First National Bank | Bagley | Minnesota.
First National Bank of Battle Lake | Battle Lake | Minnesota.
State Bank of Belle Plaine | Belle Plaine | Minnesota.
First Federal Bank | Bemidji | Minnesota.
Security Bank USA | Bemidji | Minnesota.
Preferred Bank | Big Lake | Minnesota.
State Bank of Blomkest | Blomkest | Minnesota.
Mid Minnesota. Federal Credit Union | Brainerd | Minnesota.
Bonanza Valley State Bank | Brooten | Minnesota.
Cenbank | Buffalo Lake | Minnesota.
Community Bank Corporation | Chaska | Minnesota.
Root River State Bank | Chatfield | Minnesota.
Crookston National Bank | Crookston | Minnesota.
Crow River State Bank | Delano | Minnesota.
Community Bank of the Red River Valley | East Grand Forks | Minnesota.
Crown Bank | Edina | Minnesota.
Excel Bank Minnesota. | Edina | Minnesota.
First National Bank of Elk River | Elk River | Minnesota.
The Bank of Elk River | Elk River | Minnesota.
Boundary Waters Community Bank | Ely | Minnesota.
Elysian Bank | Elysian | Minnesota.
Anchor Bank Farmington, N.A | Farmington | Minnesota.
Security State Bank of Fergus Falls | Fergus Falls | Minnesota.
First State Bank of Finlayson | Finlayson | Minnesota.
First State Bank of Fountain | Fountain | Minnesota.
State Bank of Gibbon | Gibbon | Minnesota.
Grand Marais State Bank | Grand Marais | Minnesota.
Grand Rapids State Bank | Grand Rapids | Minnesota.
First National Bank | Hawley | Minnesota.
State Bank of Hawley | Hawley | Minnesota.
Rural American Bank—Hector/Fairfax | Hector | Minnesota.
First National Bank of Herman | Herman | Minnesota.
Security State Bank of Hibbing | Hibbing | Minnesota.
Woodlands National Bank | Hinckley | Minnesota.
Stearns Bank Holdingford National Association | Holdingford | Minnesota.
Eastwood Bank | Kasson | Minnesota.
American Bank Lake City | Lake City | Minnesota.
Farmers State Bank | Madelia | Minnesota.
Security State Bank of Mankato | Mankato | Minnesota.
Pioneer Bank | Mapleton | Minnesota.
State Bank of McGregor | McGregor | Minnesota.
Kanabec State Bank | Mora | Minnesota.
Alliance Bank | New Ulm | Minnesota.
Farmers and Merchants State Bank of NY Mills, Inc. | New York Mills | Minnesota.
Valley Bank | North Mankato | Minnesota.
HomeTown Bank | Redwood Falls | Minnesota.
First National Bank of the North | Sandstone | Minnesota.
First National Bank of Sauk Centre | Sauk Centre | Minnesota.
Stearns Bank N.A | St. Cloud | Minnesota.
The Lake Bank N.A | Two Harbors | Minnesota.
Stearns Bank Upsala National Association | Upsala | Minnesota.
Mid-Central Federal Savings Bank | Wadena | Minnesota.
1st National Bank of Waseca | Waseca | Minnesota.
Arsenal Credit Union | Arnold | Missouri.
Bank 10 | Belton | Missouri.
Bank of Belton | Belton | Missouri.
Branson Bank | Branson | Missouri.
Vantage Credit Union | Bridgeton | Missouri.
Chariton County Bank | Brunswick | Missouri.
Mainstreet Bank | Bunceton | Missouri.
The First National Bank of Cainesville | Cainesville | Missouri.
Farmers State Bank | Cameron | Missouri.
Hometown Bank, N.A. | Carthage | Missouri.
First State Bank and Trust Company, Inc | Caruthersville | Missouri.
First Security State Bank of Southeast MO | Caruthersville | Missouri.
Citizens Bank of Charleston | Charleston | Missouri.
Citizens Bank & Trust Company | Chillicothe | Missouri.
First National Bank of Clinton | Clinton | Missouri.
Reliance Bank | Des Peres | Missouri.
Community Bank of El Dorado Springs | El Dorado Springs | Missouri.
United Security Bank | Fulton | Missouri.
First Bank of Missouri. | Gladstone | Missouri.
Bank of Holden | Holden | Missouri.
Hume Bank | Hume | Missouri.
Unico Bank | Irondale | Missouri.
Peoples Bank of Jamestown | Jamestown | Missouri.
Home Savings Bank | Jefferson City | Missouri.
Mid America Bank | Jefferson City | Missouri.
River Region Credit Union | Jefferson City | Missouri.
First State Bank of Joplin | Joplin | Missouri.
Commerce Bank, N.A. | Kansas City | Missouri.
First Bank of Kansas City | Kansas City | Missouri.
NorthStar Bank, National Association | Kansas City | Missouri.
Bank of Lee's Summit | Lee's Summit | Missouri.
The Farmers Bank of Lincoln | Lincoln | Missouri.
First National Bank of Mt. Vernon | Mt. Vernon | Missouri.
Community Bank & Trust | Neosho | Missouri.
Citizens Bank | New Haven | Missouri.
Bank Star | Pacific | Missouri.
The Paris National Bank | Paris | Missouri.
Bank Star of the LeadBelt | Park Hills | Missouri.
Phelps County Bank | Rolla | Missouri.
Systematic Savings and Loan Association | Springfield | Missouri.
Farmers & Merchants Bank | St. Clair | Missouri.
Allegiant Bank | St. Louis | Missouri.
Heartland Bank | St. Louis | Missouri.
Osage Valley Bank | Warsaw | Missouri.
McIntosh County Bank | Ashley | North Dakota.
First Security Bank-West | Beulah | North Dakota.
Kirkwood Bank and Trust Company | Bismarck | North Dakota.
Dakota Western Bank | Bowman | North Dakota.
First State Bank | Buxton | North Dakota.
United Valley Bank | Cavalier | North Dakota.
Western State Bank | Devils Lake | North Dakota.
Union State Bank of Hazen | Hazen | North Dakota.
The First State Bank of LaMoure | LaMoure | North Dakota.
Commercial Bank of Mott | Mott | North Dakota.
First National Bank & Trust Co. of Williston | Williston | North Dakota.
Citizens State Bank of Arlington | Arlington | South Dakota.
First State Bank | Armour | South Dakota.
First Fidelity Bank | Burke | South Dakota.
Deuel County National Bank | Clear Lake | South Dakota.
Farmers State Bank | Faith | South Dakota.
Merchants State Bank | Freeman | South Dakota.
Langford State Bank | Langford | South Dakota.
Community State Bank | Milbank | South Dakota.
Sunrise Bank Dakota | Onida | South Dakota.
Highmark Federal Credit Union | Rapid City | South Dakota.
Minnwest Bank Sioux Falls | Sioux Falls | South Dakota.
Federal Home Loan Bank of Dallas—District 9
The First National Bank | Ashdown | Arkansas.
First Western Bank | Booneville | Arkansas.
First Bank of South Arkansas. | Camden | Arkansas.
Chambers Bank | Danville | Arkansas.
Decatur State Bank | Decatur | Arkansas.
First State Bank of DeQueen | DeQueen | Arkansas.
First Service Bank | Dermott | Arkansas.
Timberland Bank | El Dorado | Arkansas.
The Bank of Fayetteville, N.A | Fayetteville | Arkansas.
Superior Bank | Fort Smith | Arkansas.
Farmers Bank | Hamburg | Arkansas.
Heritage Bank | Jonesboro | Arkansas.
Eagle Bank & Trust | Little Rock | Arkansas.
First National Bank in Mena | Mena | Arkansas.
First Security Bank | Mountain Home | Arkansas.
TrustBanc | Mountain Home | Arkansas.
Bank of Paragould | Paragould | Arkansas.
First State Bank | Plainview | Arkansas.
Portland Bank | Portland | Arkansas.
Arkansas State Bank | Siloam Springs | Arkansas.
First National Bank of Wynne | Wynne | Arkansas.
Peoples Bank of Louisiana | Amite | Louisiana.
First Bank | Baton Rouge | Louisiana.
Clinton Bank & Trust Company | Clinton | Louisiana.
Caldwell Bank and Trust | Columbia | Louisiana.
Tri-Parish Bank | Eunice | Louisiana.
Gibsland Bank & Trust Company | Gibsland | Louisiana.
First National Bank of Jeanerette | Jeanerette | Louisiana.
MidSouth National Bank | Lafayette | Louisiana.
South Lafourche Bank & Trust Company | Larose | Louisiana.
Merchants & Farmers Bank & Trust Company | Leesville | Louisiana.
Resource Bank | Mandeville | Louisiana.
Omni Bank | Metairie | Louisiana.
Bank of Montgomery | Montgomery | Louisiana.
Community First Bank | New Iberia | Louisiana.
Gulf Coast Bank & Trust Company | New Orleans | Louisiana.
United Bank & Trust Company | New Orleans | Louisiana.
First FS&LA of Allen Parish | Oakdale | Louisiana.
St. Landry Homestead | Opelousas | Louisiana.
Community Bank | Raceland | Louisiana.
First American Bank and Trust | Vacherie | Louisiana.
First Federal Savings and Loan | Aberdeen | Mississippi.
Farmers and Merchants Bank | Baldwyn | Mississippi.
Copiah Bank, N.A. | Hazlehurst | Mississippi.
Planters Bank & Trust Company | Indianola | Mississippi.
First American National Bank | Iuka | Mississippi.
Citizens Bank & Trust Company | Marks | Mississippi.
Pike County National Bank | McComb | Mississippi.
United Mississippi Bank | Natchez | Mississippi.
MS Telco Federal Credit Union | Pearl | Mississippi.
Western Bank | Alamogordo | New Mexico.
Bank of Albuquerque N.A. | Albuquerque | New Mexico.
Western Bank | Artesia | New Mexico.
Western Commerce Bank | Carlsbad | New Mexico.
Citizens Bank | Farmington | New Mexico.
Los Alamos National Bank | Los Alamos | New Mexico.
Portales National Bank | Portales | New Mexico.
Citizens Bank, N.A. | Abilene | Texas.
Anahuac National Bank | Anahuac | Texas.
Northwest National Bank of Arlington | Arlington | Texas.
First Bank | Azle | Texas.
First National Bank of Baird | Baird | Texas.
First National Bank of Ballinger | Ballinger | Texas.
Western American National Bank | Bedford | Texas.
Big Lake Bank, N.A. | Big Lake | Texas.
Blanco National Bank | Blanco | Texas.
Legend Bank, N.A. | Bowie | Texas.
Commercial National Bank | Brady | Texas.
Citizens National Bank of Breckenridge | Breckenridge | Texas.
First State Bank | Bremond | Texas.
First National Bank in Bronte | Bronte | Texas.
First National Bank | Bullard | Texas.
First Bank | Burkburnett | Texas.
First State Bank & Trust Company | Carthage | Texas.
Corsicana National Bank & Trust | Corsicana | Texas.
Stockmens National Bank | Cotulla | Texas.
The Coupland State Bank of Coupland | Coupland | Texas.
Bank of Texas, NA | Dallas | Texas.
Gateway National Bank | Dallas | Texas.
Pavillion Bank | Dallas | Texas.
State Bank of Texas | Dallas | Texas.
Signature Bank | Dallas | Texas.
Northstar Bank of Texas | Denton | Texas.
First Bank & Trust East Texas | Diboll | Texas.
The First National Bank of Eagle Lake | Eagle Lake | Texas.
New First National Bank | El Campo | Texas.
The First National Bank of Emory | Emory | Texas.
The Enloe State Bank of Enloe | Enloe | Texas.
Greater South Texas Bank, FSB | Falfurrias | Texas.
Pecos County State Bank of Fort Stockton, Texas | Fort Stockton | Texas.
Colonial Life Insurance Company of Texas | Fort Worth | Texas.
Colonial Lloyds Insurance Company | Fort Worth | Texas.
Summit National Bank | Fort Worth | Texas.
Worth National Bank | Fort Worth | Texas.
Security State Bank and Trust | Fredericksburg | Texas.
The First State Bank of Gainesville | Gainesville | Texas.
Moody National Bank | Galveston | Texas.
First National Bank | George West | Texas.
First National Bank | Giddings | Texas.
Mills County State Bank | Goldthwaite | Texas.
First State Bank | Graham | Texas.
Heritage National Bank | Granbury | Texas.
Farmers State Bank | Groesbeck | Texas.
United Community Bank, N.A. | Highland Village | Texas.
Hondo National Bank | Hondo | Texas.
North Houston Bank | Houston | Texas.
Preferred Bank | Houston | Texas.
Sterling Bank | Houston | Texas.
State National Bank of Texas | Iowa Park | Texas.
TIB—The Independent BankersBank | Irving | Texas.
Jacksboro National Bank | Jacksboro | Texas.
Texas National Bank of Jacksonville | Jacksonville | Texas.
Bank of Jena | Jena | Texas.
Jourdanton State Bank | Jourdanton | Texas.
American Bank | Keller | Texas.
Laredo Federal Credit Union | Laredo | Texas.
South Texas National Bank | Laredo | Texas.
First Liberty National Bank | Liberty | Texas.
Huntington State Bank | Lufkin | Texas.
Bank of Commerce | McLean | Texas.
USAA Federal Savings Bank | San Antonio | Texas.
Sanderson State Bank | Sanderson | Texas.
First Bank of Snook | Snook | Texas.
The First National Bank of Trenton | Trenton | Texas.
National American Bank | Uvalde | Texas.
Van Horn State Bank | Van Horn | Texas.
Central National Bank | Waco | Texas.
Wallis State Bank | Wallis | Texas.
Federal Home Loan Bank of Topeka—District 10
Colonial Bank | Aurora | Colorado.
FirstBank of Boulder | Boulder | Colorado.
FirstBank of Breckenridge | Breckenridge | Colorado.
Colorado Business Bank | Denver | Colorado.
First National Bank of Estes Park | Estes Park | Colorado.
Centennial Bank of the West | Fort Collins | Colorado.
FirstBank of Northern Colorado | Fort Collins | Colorado.
First National Bank-Colorado | Fowler | Colorado.
Union Colony Bank | Greeley | Colorado.
FirstBank of Tech Center | Greenwood Village | Colorado.
The Gunnison Bank and Trust Company | Gunnison | Colorado.
Red Rocks Federal Credit Union | Highlands Ranch | Colorado.
First State Bank | Idaho Springs | Colorado.
Valley State Bank | Lamar | Colorado.
FirstBank of Longmont | Longmont | Colorado.
Heritage Bank | Louisville | Colorado.
Equitable Savings and Loan Association | Sterling | Colorado.
FirstBank North | Westminster | Colorado.
State Bank of Wiley | Wiley | Colorado.
Stockgrowers State Bank of Ashland | Ashland | Kansas.
American Bank | Baxter Springs | Kansas.
The Bendena State Bank | Bendena | Kansas.
Commercial State Bank | Bonner Springs | Kansas.
The Citizens State Bank of Cheney | Cheney | Kansas.
The First National Bank of Clifton | Clifton | Kansas.
The Citizens National Bank | Concordia | Kansas.
The First National Bank of Cunningham | Cunningham | Kansas.
State Bank of Downs | Downs | Kansas.
Mid America Bank | Esbon | Kansas.
Garden City State Bank | Garden City | Kansas.
First Kansas Bank & Trust Company | Gardner | Kansas.
The First National Bank of Girard | Girard | Kansas.
First National Bank | Goodland | Kansas.
American State Bank & Trust Co., NA | Great Bend | Kansas.
The First State Bank of Healy | Healy | Kansas.
Morrill & Janes Bank and Trust Company | Hiawatha | Kansas.
Farmers and Merchants Bank of Hill City | Hill City | Kansas.
Hillsboro State Bank | Hillsboro | Kansas.
Hoisington National Bank | Hoisington | Kansas.
First National Bank of Holcomb | Holcomb | Kansas.
Denison State Bank | Holton | Kansas.
Bank of Holyrood | Holyrood | Kansas.
The Howard State Bank | Howard | Kansas.
The Jamestown State Bank | Jamestown | Kansas.
The Nekoma State Bank | La Crosse | Kansas.
First State Bank & Trust Company | Larned | Kansas.
The Lawrence Bank | Lawrence | Kansas.
The State Bank of Lebo | Lebo | Kansas.
The First National Bank of Liberal | Liberal | Kansas.
Lyons Federal Savings | Lyons | Kansas.
Sunflower Bank | Salina | Kansas.
St. Marys State Bank | St. Marys | Kansas.
Emprise Bank | Wichita | Kansas.
Adams State Bank | Adams | Nebraska.
The Albion National Bank | Albion | Nebraska.
First National Bank of Albion | Albion | Nebraska.
Archer Cooperative Credit Union | Archer | Nebraska.
Heartland Community Bank | Bennet | Nebraska.
Farmers & Merchants State Bank | Bloomfield | Nebraska.
First National Bank of Chadron | Chadron | Nebraska.
Bank of Clarks | Clarks | Nebraska.
Citizens State Bank | Clearwater | Nebraska.
Farmers Bank of Cook | Cook | Nebraska.
Jennings State Bank | Davenport | Nebraska.
Farmers State Bank | Dodge | Nebraska.
Commercial State Bank | Elsie | Nebraska.
Filley Bank | Filley | Nebraska.
The First National Bank of Gordon | Gordon | Nebraska.
Hastings State Bank | Hastings | Nebraska.
Security National Bank | Laurel | Nebraska.
Great Western Bank | Omaha | Nebraska.
American National Bank | Omaha | Nebraska.
Valley Bank and Trust Company | Scottsbluff | Nebraska.
Security First Bank | Sidney | Nebraska.
Iowa—Nebraska State Bank | South Sioux City | Nebraska.
Wahoo State Bank | Wahoo | Nebraska.
Citizens Bank & Trust Company | Ardmore | Oklahoma.
Peoples State Bank | Blair | Oklahoma.
1st Bank & Trust | Broken Bow | Oklahoma.
First Bank of Chandler | Chandler | Oklahoma.
Union Bank of Chandler | Chandler | Oklahoma.
The First National Bank of Coweta | Coweta | Oklahoma.
The First National Bank of Davis, Oklahoma | Davis | Oklahoma.
Edmond Bank and Trust | Edmond | Oklahoma.
Great Plains National Bank | Elk City | Oklahoma.
First Capital Bank | Guthrie | Oklahoma.
American Exchange Bank | Henryetta | Oklahoma.
The Idabel National Bank | Idabel | Oklahoma.
Bank of Locust Grove | Locust Grove | Oklahoma.
The Guarantee State Bank | Mangum | Oklahoma.
The Bank, National Association | McAlester | Oklahoma.
Grant County Bank | Medford | Oklahoma.
First National Bank | Midwest City | Oklahoma.
Citizens State Bank | Morrison | Oklahoma.
All America Bank | Mustang | Oklahoma.
Americrest Bank | Oklahoma City | Oklahoma.
Bridgeview Bank, N.A. of Oklahoma City, OK | Oklahoma City | Oklahoma.
Frontier State Bank | Oklahoma City | Oklahoma.
Quail Creek Bank, N.A | Oklahoma City | Oklahoma.
The Community State Bank | Poteau | Oklahoma.
The Exchange Bank | Skiatook | Oklahoma.
First National Bank of Stigler | Stigler | Oklahoma.
Stroud National Bank | Stroud | Oklahoma.
Bank of Oklahoma | Tulsa | Oklahoma.
Tulsa National Bank | Tulsa | Oklahoma.
Waurika National Bank | Waurika | Oklahoma.
Federal Home Loan Bank of San Francisco—District 11
First National Bank of Nevada | Scottsdale | Arizona.
National Bank of Arizona | Tempe | Arizona.
Pacific Crest Bank | Agoura Hlls | California.
Mid-State Bank | Arroyo Grande | California.
America's Christian Credit Union | Brea | California.
Jackson Federal Bank | Brea | California.
First California Bank | Camarillo | California.
Merchants Bank of California, N.A. | Carson | California.
Tri Counties Bank | Chico | California.
Chino Commercial Bank, N.A. | Chino | California.
North Island Financial Credit Union | Chula Vista | California.
Alliance Bank | Culver City | California.
First Northern Bank of Dixon | Dixon | California.
Western State Bank | Duarte | California.
Community National Bank | Fallbrook | California.
SCE Federal Credit Union | Irwindale | California.
First National Bank of North County | Lake San Marcos | California.
Cedars Bank | Los Angeles | California.
FAA First Federal Credit Union | Los Angeles | California.
Hanmi Bank | Los Angeles | California.
Manufacturers Bank | Los Angeles | California.
Peninsula Bank of Commerce | Millbrae | California.
Kaiperm Federal Credit Union | Oakland | California.
World Savings Bank, F.S.B. | Oakland | California.
Citizens Business Bank | Ontario | California.
First Security Thrift Company | Orange | California.
Cupertino National Bank | Palo Alto | California.
LA Financial Federal Credit Union | Pasadena | California.
Bank of the Sierra | Porterville | California.
Plumas Bank | Quincy | California.
Inland Empire National Bank | Riverside | California.
First American Bank | Rosemead | California.
American River Bank | Sacramento | California.
Cabrillo Credit Union | San Diego | California.
Mission Federal Credit Union | San Diego | California.
Point Loma Credit Union | San Diego | California.
San Diego Metropolitan Credit Union | San Diego | California.
University & State Employees Credit Union | San Diego | California.
America California Bank | San Francisco | California.
First Republic Bank | San Francisco | California.
National American Bank | San Francisco | California.
North Coast Bank | Santa Rosa | California.
Union Safe Deposit Bank | Stockton | California .
Federal Home Loan Bank of Seattle—District 12
Alaska USA Federal Credit Union | Anchorage | Alaska.
Alaska Pacific Bank | Juneau | Alaska.
First Hawaiian Bank | Honolulu | Hawaii.
Hawaii National Bank | Honolulu | Hawaii.
West Oahu Community Federal Credit Union | Kapolei | Hawaii.
Idaho Independent Bank | Coeur D'Alene | Idaho.
Bank of Idaho | Idaho Falls | Idaho.
Belt Valley Bank | Belt | Montana.
Flathead Bank of Bigfork | Bigfork | Montana.
Yellowstone Teachers' Credit Union | Billings | Montana.
Wells Fargo Bank MT | Billings | Montana.
First Boulder Valley Bank | Boulder | Montana.
First Citizens Bank, N.A. | Columbia Falls | Montana.
First Madison Valley Bank | Ennis | Montana.
Heritage State Bank | Fort Benton | Montana.
First State Bank of Fort Benton | Fort Benton | Montana.
Little Horn State Bank | Hardin | Montana.
Yellowstone Bank | Laurel | Montana.
Montana First Credit Union | Missoula | Montana.
Montana State Bank | Plentywood | Montana.
United States National Bank of Red Lodge | Red Lodge | Montana.
Valley Bank of Ronan | Ronan | Montana.
First Security Bank of West Yellowstone | West Yellowstone | Montana.
Central Williamette Credit Union | Albany | Oregon.
Family Security Bank | Brookings | Oregon.
Home Valley Bank | Cave Junction | Oregon.
Citizens Bank | Corvallis | Oregon.
Oregon State Bank | Corvallis | Oregon.
U Lane O Credit Union | Eugene | Oregon.
Oregon Pacific Banking Company | Florence | Oregon.
Community Bank of Grants Pass | Grants Pass | Oregon.
Southern Oregon Federal Credit Union | Grants Pass | Oregon.
Oregon Dental Service | Portland | Oregon.
Portland Teachers Credit Union | Portland | Oregon.
Town Center Bank | Portland | Oregon.
Valley Business Bank | Salem | Oregon.
Silver Falls Bank | Silverton | Oregon.
St. Helens Community Federal Credit Union | St. Helens | Oregon.
State Bank of Southern Utah | Cedar City | Utah.
Central Bank | Provo | Utah.
Far West Bank | Provo | Utah.
Liberty Bank | Salt Lake City | Utah.
Foundation Bank | Bellevue | Washington.
First Mutual Bank | Bellevue | Washington.
North Coast Credit Union | Bellingham | Washington.
Westsound Bank | Bremerton | Washington.
Coastal Community Bank | Everett | Washington.
Educational Community Credit Union | Everett | Washington.
Frontier Bank | Everett | Washington.
State National Bank of Garfield | Garfield | Washington.
Harbor Bank, NA | Gig Harbor | Washington.
ShoreBank Pacific | Iiwaco | Washington.
Twin City Bank | Longview | Washington.
City Bank | Lynnwood | Washington.
Golf Savings Bank | Mountlake Terrace | Washington.
Columbia State Bank | Olympia | Washington.
Redmond National Bank | Redmond | Washington.
Group Health Credit Union | Seattle | Washington.
Washington School Employees Credit Union | Seattle | Washington.
Silverdale State Bank | Silverdale | Washington.
AmericanWest Bank | Spokane | Washington.
Global Credit Union | Spokane | Washington.
Numerica Credit Union | Spokane | Washington.
Washington Trust Bank | Spokane | Washington.
Harborstone Credit Union | Tacoma | Washington.
Pierce Commercial Bank | Tacoma | Washington.
Boeing Employee's Credit Union | Tukwila | Washington.
Westside Community Bank | University Place | Washington.
Baker Boyer National Bank | Walla Walla | Washington.
Mid State Bank | Waterville | Washington.
First National Bank of Buffalo | Buffalo | Wyoming.
Wyoming Bank & Trust | Cheyenne | Wyoming.
The Jackson State Bank | Jackson | Wyoming.

II. Public Comments

To encourage the submission of public comments on the community support performance of Bank members, on or before January 26, 2004, each Bank will notify its Advisory Council and nonprofit housing developers, community groups, and other interested parties in its district of the members selected for community support review in the 2002-03 eighth quarter review cycle. 12 CFR 944.2(b)(2)(ii). In reviewing a member for community support compliance, the Finance Board will consider any public comments it has received concerning the member. 12 CFR 944.2(d). To ensure consideration by the Finance Board, comments concerning the community support performance of members selected for the 2002-03 eighth quarter review cycle must be delivered to the Finance Board on or before the February 27, 2004 deadline for submission of Community Support Statements.

Dated: December 29, 2003.
Arnold Intrater,
General Counsel.

[FR Doc. 04-18 Filed 1-2-04; 8:45 am]

BILLING CODE 6725-01-P